ENVIRONMENTAL PROTECTION AGENCY

[ER-FRL-6663-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 1, 2005 (70 FR 16815).

Draft EISs

EIS No. 20050037, ERP No. D-AFS-H65022-MO, Mark Twain National Forest Land and Resource Management Plan, Implementation, Revise to the 1986 Land and Resource Management Plan, Several Counties, MO.

Summary: EPA expressed environmental concerns about air quality, cumulative impacts assessment, and the adaptive management process. The significant increase in prescribed burning realtive to the 1986 Forest Plan supports the need for a detailed pre-burn analysis. Rating EC2.

EIS No. 20050038, ERP No. D-BLM-G65096-NM, McGregor Range Resource Management Plan Amendment (RMPA), Implementation, Otero County, NM.

Summary: EPA expressed lack of objections for the proposed action. Rating LO.

EIS No. 20050049, ERP No. D-NOA-L91026-00, Pacific Coast Groundfish Fishery Management Plan, To Conserve and Enhance Essential Fish Habitat Designation and Minimization of Adverse Impacts, Pacific Coast Exclusive Economic Zone, WA, OR, and CA.

Summary: EPA supports the Habitat Suitability Probability modeling approach used by NMFS, but has concerns about inaccuracies and limitations with the data used in the model, as acknowledged by NMFS. Additional information is also needed on the Fisheries Economic Assessment Model and Environmental Justice analyses. Rating EC2.

EIS No. 20050089, ERP No. D-FHW-K40257-CA, Los Banos Bypass Project, Construct from CA-152 in Merced County beginning near Volta Road west to Los Banos, bypassing Los Banos, ending near the Santa Fe Grade Road, U.S. Army COE Section 404 Permit, Merced County, CA.

Summary: EPA has environmental concerns with the proposed project regarding impacts to waters of the U.S., the scope of action, and the analysis of indirect impacts. EPA recommends that Alternative 3M be selected as the preferred alternative as it avoids permanent impacts to wetlands and the Gadwall Wildlife Area. Rating EC2.

EIS No. 20050110, ERP No. D-AFS-K65279-CA, Freds Fire Restoration Project, To Reduce Long-Term Fuel Loading for the Purpose of Reducing Future Fire Severity and Resistance to Control, Eldorado National Forest, El Dorado County, CA.

Summary: EPA expressed environmental concerns about impacts to drinking water supplies and air quality, and the use of herbicides. EPA also requested additional information be provided on Clean Air Act requirements, consultation with tribal governments, and the analysis of environmental justice issues. Rating EC2.

EIS No. 20050116, ERP No. D-COE-G39042-TX, PROGRAMMATIC—Lower Colorado River Basin Study, Provide Flood Damage Reduction and Ecosystem Restoration, Colorado River, TX.

Summary: EPA had no objections to the proposed action. Rating LO.

EIS No. 20050090, ERP No. DS-IBR-K64023-CA, Battle Creek Salmon and Steelhead Restoration Project, To Address New Significant Information, Habitat Restoration in Battle Creek and Tributaries, License Amendment Issuance, Implementation, Tehama and Shasta Counties, CA.

Summary: EPA had no objections to the proposed project. Rating LO.

Final EISs

EIS No. 20050100, ERP No. F-HUD-K60034-CA, Marysville Hotel Demolition Project, Proposed Acquisition and Demolition of Building, City of Marysville, Yuba County, CA.

Summary: No formal comment letter was sent to the preparing agency.

EIS No. 20050122, ERP No. F-DOE-K08025-00, Sahuarita-Nogales Transmission Line, Construction and Operation of a 345,00-volt (345 kV) Electric Transmission Line across the United States Border with Mexico, Application for Presidential Permit, Tucson Electric Power (TEP), Nogales, AZ.

Summary: EPA previous issues have been resolved, therefore EPA has no objection to the action as proposed.

EIS No. 20050152, ERP No. F-AFS-J65411-MT, Snow Talon Fire Salvage Project, Proposes to Salvage Harvest Trees Burned in the Fire, Helena National Forest, Lincoln Ranger District, Lewis and Clark County, MT.

Summary: EPA expressed concerns about salvage logging on severely burned soils, however supports project planning and design that appears to minimize sediment production, and included restoration work to reduce existing sources of sediment. EPA reiterates the importance that the selected alternative avoid sediment delivery to streams, including 303(d) listed Blackfoot River and Copper Creek, a critical bull trout spawning stream.

Dated: May 17, 2005.
Ken Mittelholtz,
Environmental Protection Specialist, Office of Federal Activities.

[FR Doc. 05-10111 Filed 5-19-05; 8:45 am]

BILLING CODE 6560-50-P